NATIONAL AERONAUTICS AND SPACE ADMINISTRATION

[Notice (22-046)]

NASA Advisory Council; Human Exploration and Operations Committee and Science Committee; Meeting

AGENCY: National Aeronautics and Space Administration.

ACTION: Notice of meeting.

SUMMARY: In accordance with the Federal Advisory Committee Act, as amended, the National Aeronautics and Space Administration (NASA) announces a meeting of the Human Exploration Committee and the Science Committee of the NASA Advisory Council (NAC). These Committees report to the NAC.

DATES: Wednesday, July 13, 2022, 1:00 p.m. to 5:00 p.m. Eastern Time.

ADDRESSES: Due to current COVID-19 issues affecting NASA Headquarters occupancy, public attendance will be virtual only. See dial-in and WebEx information below under SUPPLEMENTARY INFORMATION.

FOR FURTHER INFORMATION CONTACT: Dr. Bette Siegel, Designated Federal Officer, Human Exploration Committee, NASA Headquarters, Washington, DC 20546, via email at bette.siegel@nasa.gov or 202-358-2245.

SUPPLEMENTARY INFORMATION: As noted above, this meeting will be open to the public via Webex and telephonically. Webex connectivity information is provided below. For audio, when you join the Webex event, you may use your computer or provide your phone number to receive a call back, otherwise, call the U.S. toll conference number listed.

On Wednesday, July 13, the event address for attendees is: https://nasaevents.webex.com/nasaevents/j.php?MTID=m81dc0850afc7f558575eab0b5be037b8. The event number is 2763 382 5527 and the event password is bEGEucws379 (72783872 from phones). If needed, the U.S. toll conference number is 1-415-527-5035 or 1-312-500-3163 and access code is 2763 382 5527.

The agenda for the meeting includes the following topics:

—Moon to Mars Architecture Status

—Cross Directorate Science Utilization

—Artemis Science Team formation

—Processes on Integration and Implementation of Science in Artemis

—Discussion on the Planetary Decadal

It is imperative that this meeting be held on this day to accommodate the scheduling priorities of the key participants.

Carol J. Hamilton,
Acting Advisory Committee Management Officer, National Aeronautics and Space Administration.

[FR Doc. 2022-13534 Filed 6-23-22; 8:45 am]

BILLING CODE 7510-13-P